DEPARTMENT OF THE INTERIOR

Bureau of Land Management

[CA-360-1430-EU; CA SAC 067440]

Notice of Realty Action; Classification of Public Land for Recreation and Public Purposes; Shasta County, CA

AGENCY: Bureau of Land Management, Interior.

ACTION: Notice of realty action.

SUMMARY: The Bureau of Land Management (BLM) has examined and found suitable for classification for lease and conveyance under provisions of the Recreation and Public Purposes Act, approximately 4.54 acres of public land in Shasta County, California. The County of Shasta proposes to use the land for waste transfer facility purposes.

DATES: Interested persons may submit written comments to the BLM Field Manager at the address shown below until December 27, 2005. The land will not be offered for lease or conveyance until after January 9, 2006.

ADDRESSES: Bureau of Land Management, Redding Field Office, 355 Hemsted Drive, Redding, California 96002.

FOR FURTHER INFORMATION CONTACT: Ilene Emry at the above address or at 530-224-2100 or by e-mail to iemry@ca.blm.gov.

SUPPLEMENTARY INFORMATION: The following described public land in Shasta County, California has been examined and found suitable for classification for lease and conveyance under the provisions of the Recreation and Public Purposes Act, as amended (43 U.S.C. 869 et seq.) and is hereby classified accordingly:

Mount Diablo Meridian, California

T. 32 N., R. 5 W., sec. 30, lot 18.

The area described contains approximately 4.54 acres in Shasta County.

A portion (approximately 2 acres within lot 18) of the public land described in this Notice was previously classified as suitable for lease for landfill purposes to Shasta County. The purpose of this Notice is to classify the land as suitable for lease and conveyance. The land will continue to be used as a waste transfer facility as authorized under CA S 067440.

The land would not be offered for lease or conveyance until at least 60 days after the date of publication of this Notice in the Federal Register. The patent, when issued, will be subject to the provisions of the Recreation and Public Purposes Act and to all applicable regulations of the Secretary of the Interior, and would contain the following reservations to the United States:

1. All minerals.

2. A right-of-way thereon for ditches and canals.

The land is not needed for Federal purposes. Lease or conveyance is consistent with current BLM land use planning and would be in the public interest. The subject land was also segregated as of March 16, 2005 (CA 46843 F2), under provisions of the exchange regulations found at 43 CFR 2201.1-1 (1982 Update of the Redding Management Framework Plan). The March 16, 2005 segregation is hereby terminated for the land described in this Notice. Upon publication of this Notice of Realty Action in the Federal Register, the subject land will be segregated from appropriation under any other public land law, including locations under the mining laws. The segregative effect shall terminate upon issuance of a patent or as specified in an opening order to be published in the Federal Register, whichever occurs first. Detailed information concerning this action is available for review at the address listed above.

Classification Comments: Interested parties may submit comments involving the suitability of the land for a waste transfer facility as described below. Comments on the classification are restricted to whether the land is physically suited for the proposal, whether the use is consistent with local planning and zoning, or if the use is consistent with State and Federal programs.

Application Comments: Interested parties may submit comments regarding the specific use proposed in the application and plan of development, whether the BLM followed proper administrative procedures in reaching the decision, or any other factor not directly related to the suitability of the land for Recreation and Public Purposes.

All submissions from organizations or businesses will be made available for public inspection in their entirety. Individuals may request confidentiality with respect to their name, address, and phone number. If you wish to have your name or street address withheld from public review, or from disclosure under the Freedom of Information Act, the first line of the comment should start with the words CONFIDENTIALITY REQUEST in uppercase letters in order for BLM to comply with your request. Such request will be honored to the extent allowed by law. Comment contents will not be kept confidential. Any adverse comments will be evaluated by the State Director, who may sustain, vacate, or modify this realty action.

On November 9, 2005, the subject land will be segregated from all other appropriation under the public land laws, including the general mining laws, except for lease or conveyance under the Recreation and Public Purposes Act. The segregative effect shall terminate upon issuance of a patent or as specified in an opening order to be published in the Federal Register, which ever occurs first. In the absence of timely objections, the classification of the land described in this Notice will become effective January 9, 2006. The land will not be offered for lease or conveyance until after the classification becomes effective.

(Authority: 43 CFR 2741.5)
Dated: September 2, 2005.
Steven W. Anderson,
Field Manager.

[FR Doc. 05-22344 Filed 11-8-05; 8:45 am]

BILLING CODE 4310-40-P